COMMITTEE FOR PURCHASE FROM PEOPLE WHO ARE BLIND OR SEVERELY DISABLED

Procurement List; Additions and Deletions

AGENCY: Committee for Purchase From People Who Are Blind or Severely Disabled.

ACTION: Additions to and deletion from Procurement List.

SUMMARY: This action adds to the Procurement List products and services to be furnished by nonprofit agencies employing persons who are blind or have other severe disabilities, and deletes from the Procurement List a service previously furnished by such agencies.

DATES: Effective Date: January 21, 2007.

ADDRESSES: Committee for Purchase From People Who Are Blind or Severely Disabled, Jefferson Plaza 2, Suite 10800, 1421 Jefferson Davis Highway, Arlington, VA 22202-3259.

FOR MORE INFORMATION OR TO SUBMIT COMMENTS CONTACT: Sheryl D. Kennerly, Telephone: (703) 603-7740, Fax: (703) 603-0655, or e-mail CMTEFedReg@jwod.gov.

SUPPLEMENTARY INFORMATION:

Additions

On October 13, 2006 & October, 20, 2006, the Committee for Purchase From People Who Are Blind or Severely Disabled published notice (71 FR 60471; 61949-61957) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following product is added to the Procurement List:

Products

Pharmacy Repackaging Bottles

NSN: 6530-00-NIB-0132—Bottle, screw cap, high-density polyethylene, round, wide mouth, white opaque without closure, 45-400 neck finish, 300cc

NSN: 6530-00-NIB-0131—Bottle, screw cap, high-density polyethylene, round, wide mouth, white opaque without closure, 45-400 neck finish, 300cc

NSN: 6530-00-NIB-0130—Bottle, screw cap, high-density polyethylene, round, wide mouth, white opaque without closure, 38-400 neck finish, 150cc

NSN: 6530-00-NIB-0129—Bottle, screw cap, high-density polyethylene, round, wide mouth, white opaque without closure, 38-400 neck finish, 100cc

NSN: 6530-00-NIB-0133—Bottle, screw cap, high-density polyethylene, round, wide mouth, white opaque without closure, 53-400 neck finish, 500cc

NPA: Alphapointe Association for the Blind, Kansas City, MO

Contracting Activity: Health & Human Services, Program Support Center, Perry Point, MD

Gloves, Flyers', Summer, Type GS/FRP-2; GS/FPP-2

NSN: 8415-01-029-0109-Gloves, Flyers' Summer Type GS-FRP-2, Sage Green (Size 7)

NSN: 8415-01-029-0111—Gloves, Flyers' Summer Type GS-FRP-2, Sage Green (Size 8)

NSN: 8415-01-029-0112—Gloves, Flyers' Summer Type GS-FRP-2, Sage Green (Size 9)

NSN: 8415-01-029-0113—Gloves, Flyers' Summer Type GS-FRP-2, Sage Green (Size 10)

NSN: 8415-01-029-0116—Gloves, Flyers' Summer Type GS-FRP-2, Sage Green (Size 11)

NSN: 8415-01-040-1453—Gloves, Flyers' Summer Type GS-FRP-2, Sage Green (Size 6)

NSN: 8415-01-040-2012—Gloves, Flyers' Summer Type GS-FRP-2, Sage Green (Size 5)

NSN: 8415-01-461-4920—Gloves, Flyers' Summer Type GS-FPP-2, Desert Tan (Size 5)

NSN: 8415-01-461-4922—Gloves, Flyers' Summer Type GS-FPP-2, Desert Tan (Size 6)

NSN: 8415-01-461-4924—Gloves, Flyers' Summer Type GS-FPP-2, Desert Tan (Size 7)

NSN: 8415-01-461-4932—Gloves, Flyers' Summer Type GS-FPP-2, Desert Tan (Size 8)

NSN: 8415-01-461-4934—Gloves, Flyers' Summer Type GS-FPP-2, Desert Tan (Size 9)

NSN: 8415-01-461-4940—Gloves, Flyers' Summer Type GS-FPP-2, Desert Tan (Size 10)

NSN: 8415-01-461-4942—Gloves, Flyers' Summer Type GS-FPP-2, Desert Tan (Size 11)

NSN: 8415-01-461-4962—Gloves, Flyers' Summer Type GS-FRP-2, Black (Size 5)

NSN: 8415-01-461-4964—Gloves, Flyers' Summer Type GS-FRP-2, Black (Size 6)

NSN: 8415-01-461-4966—Gloves, Flyers' Summer Type GS-FRP-2, Black (Size 7)

NSN: 8415-01-461-4969—Gloves, Flyers' Summer Type GS-FRP-2, Black (Size 8)

NSN: 8415-01-461-4970—Gloves, Flyers' Summer Type GS-FRP-2, Black (Size 9)

NSN: 8415-01-461-4971—Gloves, Flyers' Summer Type GS-FRP-2, Black (Size 10)

NSN: 8415-01-461-4981—Gloves, Flyers' Summer Type GS-FRP-2, Black (Size 11)

NSN: 8415-01-482-8417—Gloves, Flyers' Summer Type GS-FRP-2, Sage Green (Size 4)

NSN: 8415-01-482-8420—Gloves, Flyers' Summer Type GS-FRP-2, Sage Green (Size 12)

NSN: 8415-01-482-8678—Gloves, Flyers' Summer Type GS-FRP-2, Black (Size 4)

NSN: 8415-01-482-8684—Gloves, Flyers' Summer Type GS-FRP-2, Black (Size 12)

NSN: 8415-01-482-8688—Gloves, Flyers' Summer Type GS-FPP-2, Desert Tan (Size 4)

NSN: 8415-01-482-8690—Gloves, Flyers' Summer Type GS-FPP-2, Desert Tan (Size 12)

NPA: South Texas Lighthouse for the Blind, Corpus Christi, TX

Contracting Activity: Defense Supply Center Philadelphia, Philadelphia, PA

Vehicular Safety

NSN: 2540-01-495-0817—Belt, Vehicular Safety

NPA: BH Services, Inc., Rapid City, SD

Contracting Activity: Defense Supply Center Columbus, Columbus, OH

Services

Service Type/Location

Custodial Services, Army Reserve Contracting Center, (Coraopolis Satellite Office/PA178 West Pointe Corp Three), 1605 Coraopolis Heights Road, Coraopolis, PA.

NPA: Hancock County Sheltered Workshop, Inc., Weirton, WV.

Contracting Activity: 99th Regional Support Command, Coraopolis, PA.

Service Type/Location

Custodial Services, VA Charleston Consolidated Mail Out Pharmacy, (3725 Rivers Avenue), North Charleston, SC.

NPA: OE Enterprises, Inc., Hillsborough, NC.

Contracting Activity: VA-VISN 7-Atlanta Network, Duluth, GA.

Deletions

On September 29, 2006, the Committee for Purchase From People Who Are Blind or Severely Disabled published notice (70 FR57464) of proposed deletions to the Procurement List.

After consideration of the relevant matter presented, the Committee has determined that the service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following service is deleted from the Procurement List:

Service

Service Type/Location

Janitorial/Custodial/Autec and Lubratorium, Maritime Building Only, (West Palm Beach), Riviera Beach, FL.

NPA: Elwyn, Inc., Aston, PA

Contracting Activity: General Services Administration.

Sheryl D. Kennerly,
Director, Information Management.

[FR Doc. E6-21360 Filed 12-14-06; 8:45 am]

BILLING CODE 6353-01-P